DEPARTMENT OF HEALTH AND HUMAN SERVICES

Agency for Healthcare Research and Quality

Request for Measures of Consumers' Assessment of Cultural Competency

AGENCY: Agency for Healthcare Research and Quality (AHRQ), DHHS.

ACTION: Notice of request for measures.

SUMMARY: The Agency for Healthcare Research and Quality (AHRQ) is soliciting the submission of instruments or items that measure patient perspectives on the cultural awareness of the healthcare professionals providing care to those patients. This initiative is in response to the need to develop a new CAHPS® cultural competency survey. AHRQ is interested in incorporating this survey into an integrated set of carefully tested, standardized survey questionnaires and accompanying reports. The addition of the CAHPS® cultural competency component to the set is intended to empower consumers with quality of care information while also encouraging healthcare professionals to provide culturally competent care. The survey will be designed to assess the quality of care and services provided by healthcare professional in the context of cultural competency.

Based on prior work, there are several functional areas that the planned instrument could assess such as: (1) Patient-provider communication (e.g., providers give clear explanations, patients feel that they get all the information they need,), (2) respect for patient preferences/shared decision-making (e.g., providers discuss pros and cons of treatment options, providers understand and takes into account patient's environment, family members are appropriately included in decisions), (3) experiences leading to trust or distrust (e.g., providers treat patients in a culturally sensitive or insensitive manner that led to trust or distrust), (4) experiences of discrimination (e.g., providers or staff treat patients with disrespect because of a patients' racial/ethnic backgrounds, insurance type/status, lack of proficiency in English), (5) language access (e.g., availability of interpreter services and translated materials), and (6) alternative treatment (e.g., providers are open to discussion about traditional healers and remedies).

DATES: Please submit instruments or individual items and supporting information on or before November 15, 2006. AHRQ will not respond individually to submitters, but will consider all submitted instruments and publicly report the results of the review of the submissions in aggregate.

ADDRESSES: Submissions should include a brief cover letter, copy of the instrument or items for consideration and supporting information as specified under the Submission Criteria below. Submissions may be in the form of a letter or e-mail, preferably with an electronic file as an e-mail attachment. Responses to this request should be submitted to: Anna Caponiti, Center for Quality Improvement and Patient Safety, Agency for Healthcare Research and Quality, 540 Gaither Road, Rockville, MD 20850, Phone: (301) 427-1402, Fax: (301) 427-1341, E-mail: anna.caponiti@ahrq.hhs.gov.

To facilitate handling of submissions, please include full information about the instrument developer or contact: (a) Name, (b) title, (c) organization, (d) mailing address, (e) telephone number, (f) fax number, and (g) e-mail address. Also please submit a copy of the instrument or items for consideration along with evidence that they meet the criteria below. It would be appreciated if each citation of a peer-reviewed journal article pertaining to the instrument includes the title of the article, author(s), publication year, journal name, volume, issue, and page numbers where article appears, but all of these details are not required. Submitters must also provide a statement of willingness to grant to AHRQ the right to use and authorize others to use submitted measures and their documentation as part of a CCAHPS®-trademarked instrument. This CAHPS® instrument for patients' perspectives on cultural competency of healthcare professionals provision of care will be made publicly available, free of charge. Electronic submissions are encouraged.

FOR FURTHER INFORMATION CONTACT: Anna Caponiti, at the address above.

SUPPLEMENTARY INFORMATION:

Background Information

The CAHPS® program was initiated in 1995 to develop a survey and report on consumers' perspectives on the quality of their health plans. Since that time, the CAHPS® program, in partnership with the Centers for Medicare and Medicaid Services (CMS) and others, has expanded its scope and developed consumer surveys and reports regarding consumer perspectives on individual clinicians, group practices, in-center hemodialysis services, nursing homes and hospitals. AHRQ determined that the CAHPS® team should develop a survey to obtain consumer perspectives on cultural awareness of healthcare professionals.

The vision of the Agency for Healthcare Research and Quality is to foster health care research that helps the American health care system provide access to high-quality, cost-effective services; be accountable and responsive to consumers and purchasers; and improve health status and quality of life. The CAHPS® program was developed as a result of AHRQ's vision. One of the components missing from the current measurement set is an assessment of patients' perspective on cultural awareness of healthcare professionals.

Submission Criteria

Instruments submitted should focus on patient perspectives on the quality of care and services provided by healthcare professionals in the context of cultural awareness demonstrated by those healthcare professionals.

AHRQ is interested in measures that: (a) Capture patients' experiences of quality of received health care in the context of healthcare professionals' cultural awareness and (b) demonstrate a high degree of reliability and validity. Accordingly, each submission should include, in addition to the name of the pertinent instrument, domains included, and the language(s) the instrument is available in, the following information: Evidence of cultural/cross group comparability, if any; instrument reliability (internal consistency, test-retest, etc.); validity (content, construct, criterion-related); response rates; methods and results of cognitive testing and field-testing as well as descriptions of sampling strategies (including payer type) and data collection protocols, including such elements as mode of administration, use of advance letters, timing and frequencies of contacts. Evidence addressing these criteria should be demonstrated through submission of peer-reviewed journal article(s) or through the best evidence available at the time of submission.

In addition, a list of where the instrument has been fielded should also be included in the submission. Submission of copies of existing report formats developed to disclose findings to consumers and providers is desirable, but not required. Additionally, information about existing database(s) for the instrument(s) submitted is helpful, but not required for submission.

Submitters' willingness to grant to AHRQ the right to use and authorize others to use their instrument or item and accompanying explanatory material means that the CAHPS® trademark will be applied to a new instrument which will combine the best features of the submissions as well as any ideas that may develop from reviewing them. It also ensures free access to this instrument and the instrument's supportive/administrative information. AHRQ, in collaboration with CAHPS grantees, will evaluate all submitted instruments or items. As the CAHPS instrument is constructed, one or more items may be selected for use, either in whole or in part, or modified, prior to testing them. AHRQ will assume responsibility for the final instruments as well as any future modifications.

The final instrument will bear the CAHPS® trademark and it will be made available without charge for use by all interested parties. Submitters will have relinquished ownership of any items that appear in the final instrument. However, item ownership will be protected during testing of the survey. As a matter of quality control, there will be warnings that the CAHPS® trademark or identification may not be used if any changes are made to the instrument or final measure set without review and permission of the Agency.

Dated: October 5, 2006.
Carolyn M. Clancy,
Director.

[FR Doc. 06-8674 Filed 10-13-06; 8:45 am]

BILLING CODE 4160-90-M